FEDERAL RETIREMENT THRIFT INVESTMENT BOARD

Sunshine Act Notice

Time and Date: 9 a.m. (e.d.t.) July 19, 2004.

Place: 4th Floor Conference Room, 1250 H Street, NW., Washington, DC.

Status: Parts will be open to the public and parts closed to the public.

Matters To Be Considered:

Parts Open to the Public

1. Approval of the minutes of the June 7, 2004, Board member meeting.

2. Annual financial audit presentation (by Deloitte & Touche).

3. Investment policy quarterly review.

4. Thrift Savings Plan activity report by the Executive Director.

Parts Closed to the Public

5. Personnel matters.

6. Litigation.

FOR FURTHER INFORMATION CONTACT: Thomas J. Trabucco, Director, Office of External Affairs, (202) 942-1640.

Dated: July 7, 2004.
Elizabeth S. Woodruff,
Secretary to the Board, Federal Retirement Thrift Investment Board.

[FR Doc. 04-15769 Filed 7-7-04; 3:39 pm]

BILLING CODE 6760-01-P